DEPARTMENT OF COMMERCE

National Oceanic and Atmospheric Administration

[I.D. 051001C]

Monthly Cold Storage Report

AGENCY: National Oceanic and Atmospheric Administration (NOAA).

ACTION: Proposed information collection; comment request.

SUMMARY: The Department of Commerce, as part of its continuing effort to reduce paperwork and respondent burden, invites the general public and other Federal agencies to take this opportunity to comment on proposed and/or continuing information collections, as required by the Paperwork Reduction Act of 1995, Pub. L. 104-13 (44 U.S.C. 3506(c)(2)(A)).

DATES: Written comments must be submitted on or before July 16, 2001.

ADDRESSES: Direct all written comments to Madeleine Clayton, Departmental Paperwork Clearance Officer, Department of Commerce, Room 6086, 14th and Constitution Avenue NW., Washington DC 20230 (or via Internet at MClayton@doc.gov).

FOR FURTHER INFORMATION CONTACT: Requests for additional information or copies of the information collection instrument(s) and instructions should be directed to Barbara K. O’Bannon, U.S. Department of Commerce, NOAA, National Marine Fisheries Service, Fisheries Statistics and Economics Division, F/ST1, Room 12326, 1315 East-West Highway, Silver Spring, MD 20910 (phone 301-713-2328, ext. 206).

SUPPLEMENTARY INFORMATION:

I. Abstract

NOAA collects monthly data on the quantity of fish and shellfish being held in cold storage in the United States. Data are collected under authority of Section 742(d) of the Fish and Wildlife Act of 1956 as amended (16 U.S.C. 742(A) and provisions of Magnuson-Stevens Fishery Conservation and Management Act (16 U.S.C. l801 et seq.) as amended. Responses are voluntary. Monthly reports are published and are used by the fishing industry to plan purchases, processing, sales, distribution, and prices for both wholesale and retail of fishery products. monthly. Both monthly and annual documents are available on the Internet at http://www.st.nmfs.gov/st1/.

II. Method of Collection

Paper forms are mailed to respondents.

III. Data

OMB Number: 0648-0015.

Form Number: NOAA Form 88-16.

Type of Review: Regular submission.

Affected Public: Business or other for-profit organizations.

Estimated Number of Respondents: 103.

Estimated Time Per Response: 8 minutes.

Estimated Total Annual Burden Hours: 165.

Estimated Total Annual Cost to Public: $0.

IV. Request for Comments

Comments are invited on: (a) whether the proposed collection of information is necessary for the proper performance of the functions of the agency, including whether the information shall have practical utility; (b) the accuracy of the agency’s estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 10, 2001.
Madeleine Clayton,
Departmental Paperwork Clearance Officer, Office of the Chief Information Officer.

[FR Doc. 01-12361 Filed 5-16-01; 8:45 am]

BILLING CODE 3510-22-S